NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Pub. L. 104-13. This is the second notice for public comment; the first was published in the Federal Register at 71 FR 45076, and no substantial comments were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send email to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title of Collection: “National Science Foundation Proposal and Award Information—NSF Proposal and Award Policies & Procedures Guide.”

OMB Approval Number: 3145-0058.

Type of Request: Intent to seek approval to extend with revision an information collection for three years.

Proposed Project: NSF is seeking to improve its existing mechanisms for the issuance of proposal and award policies and procedures. Previously, these policies and procedures were contained in two separate issuances: the Grant Proposal Guide and the Grant Policy Manual. These documents were each separately maintained and issued with different effective dates and significant redundancies between the two documents. We have now collapsed these two documents into a new policy framework: the NSF Proposal and Award Policies and Procedures Guide.

Part I of this document will include NSF Proposal Preparation and Submission Guidelines, i.e., the Grant Proposal Guide (GPG), and Part II will include the NSF Award & Administration Guide (previously known as the GPM). These documents will be available as a single html file on the NSF Web site. This initial issuance of the NSF Proposal and Award Policies and Procedures Guide will be effective following approval by OMB of this information collection request. Future issuances of this Guide will be supplemented with additional documents, such as the NSF Grants.gov Application Guide.

This new policy framework will assist both NSF customers as well as NSF staff by:

1. Improving both the awareness and knowledge of the complete set of NSF policies and procedural documents;

2. Increasing ease of access to the policies and procedures that govern the entire grant lifecycle;

3. Eliminating duplicative coverage between the two documents;

4. Increasing the transparency of our proposal and award process; and

5. Allowing NSF to better manage amendments between the two documents necessitated by administrative changes.

This process also will combine the Grant Proposal Guide (OMB Clearance No. 3145-0058) with the Proposal Review Process (3145-0060) to streamline the proposal and award management processes for applicants and awardees. This will allow NSF to better manage amendments between the two collections necessitated by administrative changes. Following OMB approval, this information will be available electronically by the community via the Internet.

The National Science Foundation (NSF) is an independent Federal agency created by the National Science Foundation Act of 1950, as amended (42 U.S.C. 1861-75). The Act states the purpose of the NSF is “to promote the progress of science; [and] to advance the national health, prosperity, and welfare” by supporting research and education in all fields of science and engineering.” The Act authorized and directed NSF to initiate and support:

• Basic scientific research and research fundamental to the engineering process;

• Programs to strengthen scientific and engineering research potential;

• Science and engineering education programs at all levels and in all the various fields of science and engineering;

• Programs that provide a source of information for policy formulation; and

• Other activities to promote these ends.

From those first days, NSF has had a unique place in the Federal Government: It is responsible for the overall health of science and engineering across all disciplines. In contrast, other Federal agencies support research focused on specific missions such as health or defense. The Foundation also is committed to ensuring the nation's supply of scientists, engineers, and science and engineering educators.

The Foundation fulfills this responsibility by initiating and supporting merit-selected research and education projects in all the scientific and engineering disciplines. It does this through grants and cooperative agreements to more than 2,800 colleges, universities, K-12 school systems, businesses, informal science organizations and other research institutions throughout the U.S. The Foundation accounts for about one-fourth of Federal support to academic institutions for basic research.

Over the years, NSF's statutory authority has been modified in a number of significant ways. In 1968, authority to support applied research was added to the Organic Act. In 1980, The Science and Engineering Equal Opportunities Act gave NSF standing authority to support activities to improve the participation of women and minorities in science and engineering.

Another major change occurred in 1986, when engineering was accorded equal status with science in the Organic Act. NSF has always dedicated itself to providing the leadership and vision needed to keep the words and ideas embedded in its mission statement fresh and up-to-date. Even in today's rapidly changing environment, NSF's core purpose resonates clearly in everything it does: promoting achievement and progress in science and engineering and enhancing the potential for research and education to contribute to the Nation. While NSF's vision of the future and the mechanisms it uses to carry out its charges have evolved significantly over the last four decades, its ultimate mission remains the same.

Use of the Information: The regular submission of proposals to the Foundation is part of the collection of information and is used to help NSF fulfill this responsibility by initiating and supporting merit-selected research and education projects in all the scientific and engineering disciplines. NSF receives more than 40,000 proposals annually for new projects, and makes approximately 10,500 new awards.

Support is made primarily through grants, contracts, and other agreements awarded to more than 2,800 colleges, universities, academic consortia, nonprofit institutions, and small businesses. The awards are based mainly on evaluations of proposal merit submitted to the Foundation (proposal review is currently cleared under OMB Control No. 3145-0060).

The Foundation has a continuing commitment to monitor the operations of its information collection to identify and address excessive reporting burdens as well as to identify any real or apparent inequities based on gender, race, ethnicity, or disability of the proposed principal investigator(s)/project director(s) or the co-principal investigator(s)/co-project director(s).

Proposal Evaluation Process

The Foundation relies heavily on the advice and assistance of external advisory committees, ad-hoc proposal reviewers, and to other experts to ensure that the Foundation is able to reach fair and knowledgeable judgments. These scientists and educators come from colleges and universities, nonprofit research and education organizations, industry, and other Government agencies.

In making its decisions on proposals the counsel of these merit reviewers has proven invaluable to the Foundation both in the identification of meritorious projects and in providing sound basis for project restructuring.

Review of proposals may involve large panel sessions, small groups, or use of a mail-review system. Proposals are reviewed carefully by scientists or engineers who are expert in the particular field represented by the proposal. About 54% are reviewed exclusively by panels of reviewers who gather, usually in Arlington, VA, to discuss their advice as well as to deliver it. About 33% are reviewed first by mail reviewers expert in the particular field, then by panels, usually of persons with more diverse expertise, who help the NSF decide among proposals from multiple fields or sub-fields. Finally, about 9% are reviewed exclusively by mail.

Use of the Information

The information collected is used to support grant programs of the Foundation. The information collected on the proposal evaluation forms is used by the Foundation to determine the following criteria when awarding or declining proposals submitted to the Agency: (1) What is the intellectual merit of the proposed activity? (2) What are the broader impacts of the proposed activity?

The information collected on reviewer background questionnaire (NSF 428A) is used by managers to maintain an automated database of reviewers for the many disciplines represented by the proposals submitted to the Foundation. Information collected on gender, race, and ethnicity is used in meeting NSF needs for data to permit response to Congressional and other queries into equity issues. These data also are used in the design, implementation, and monitoring of NSF efforts to increase the participation of various groups in science, engineering, and education.

Confidentiality

When a decision has been made (whether an award or a declination), verbatim copies of reviews, excluding the names of the reviewers, and summaries of review panel deliberations, if any, are provided to the PI. A proposer also may request and obtain any other releasable material in NSF's file on their proposal. Everything in the file except information that directly identifies either reviewers or other pending or declined proposals is usually releasable to the proposer.

While a listing of panelists' names is released annually, the names of individual reviewers, associated with individual proposals, are not released to anyone.

Because the Foundation is committed to monitoring and identifying any real or apparent inequities based on gender, race, ethnicity, or disability of the proposed principal investigator(s)/project director(s) or the co-principal investigator(s)/co-project director(s), the Foundation also collects information regarding race, ethnicity, disability, and gender. This information also is protected by the Privacy Act.

Burden on the Public: For the Grant Proposal Guide, NSF estimates that an average of 120 hours is expended for each proposal submitted. An estimated 45,000 proposals are expected during the course of one year for a total of 5,400,000 public burden hours annually.

For the proposal review process, NSF estimates that anywhere from one hour to twenty hours may be required to review a proposal. It is estimated that approximately five hours are required to review an average proposal. Each proposal receives an average of 6 reviews, with a minimum requirement of three reviews for an estimated total of 1,350,000 hours. The estimated burden for the Reviewer Background Information (NSF 428A) is estimated at 5 minutes per respondent with up to 10,000 potential new reviewers for a total of 83 hours. The estimated total is 1,350,083 for the reviewer process and the reviewer background information.

The estimated aggregated total for both the Grant Proposal Guide and the proposal review process is 6,750,083 hours.

Dated: November 7, 2006.
Suzanne H. Plimpton,
Reports Clearance Officer, National Science Foundation.

[FR Doc. E6-19104 Filed 11-9-06; 8:45 am]

BILLING CODE 7555-01-P